FEDERAL COMMUNICATIONS COMMISSION

[Report No. 2640-Correction]

Petition for Reconsideration and Clarification of Action in Rulemaking Proceedings

January 7, 2003.

Petitions for Reconsideration and Clarification have been filed in the Commission's Rulemaking proceedings listed in this Public Notice and published pursuant to 47 CFR 1.429(e). The full text of this document is available for viewing and copying in Room CY-A257, 445 12th Street, SW., Washington, DC, or may be purchased from the Commission's copy contractor, Qualex International (202) 863-2893. Oppositions to these petitions must be filed by February 10, 2004. See 1.4(b)(1) of the Commission's rules (47 CFR 1.4(b)(1)). Replies to an opposition must be filed within 10 days after the time for filing oppositions have expired.

Subject: In the Matter of the Implementation of the Pay Telephone Reclassification and Compensation Provisions of the Telecommunications Act of 1996 (CC Docket No. 96-128).

Number of Petitions Filed: 4.

* This is a correction to Report #2640, released on December 23, 2003, to include an additional petition which was inadvertently omitted from CC Docket No. 96-128. The dates for filing oppositions will be extended to 15 days from the date of publication of this notice in the Federal Register. Replies to an opposition will be extended to 10 days after the time for filing oppositions has expired.

Marlene H. Dortch,
Secretary.

[FR Doc. 04-1529 Filed 1-23-04; 8:45 am]

BILLING CODE 6712-01-M